DEPARTMENT OF ENERGY

Federal Energy Regulatory Commission

[Docket No. ER01-111-000, et al.]

Cinergy Services, Inc., et al.; Electric Rate and Corporate Regulation Filings

October 19, 2000.

Take notice that the following filings have been made with the Commission:

1. Cinergy Services, Inc.

[Docket No. ER01-111-000]

Take notice that on October 13, 2000, Cinergy Services, Inc. (Cinergy) and Northern/AES Energy, L.L.C., are requesting a cancellation of Service Agreement No. 99, under Cinergy Operating Companies, Resale of Transmission Rights and Ancillary Service Rights, FERC Electric Tariff Original Volume No. 8.

Cinergy requests an effective date of October 9, 2000.

Comment date: November 3, 2000, in accordance with Standard Paragraph E at the end of this notice.

2. Commonwealth Edison Company

[Docket No. ER01-125-000]

Take notice that on October 16, 2000, Commonwealth Edison Company (ComEd), tendered for filing an Interconnection Agreement with Duke Energy Lee, LLC (Duke).

ComEd requests an effective date of October 17, 2000 and accordingly seeks waiver of the Commission's notice requirements.

Copies of the filing were served on Duke and the Illinois Commerce Commission.

Comment date: November 6, 2000, in accordance with Standard Paragraph E at the end of this notice.

3. PJM Interconnection, L.L.C.

[Docket No. ER01-128-000]

Take notice that on October 16, 2000, PJM Interconnection, L.L.C. (PJM), tendered for filing first revised sheet No. 87U to its Open Access Transmission Tariff containing revisions to the “PJM Assignment Matrix” which governs the assignment of costs from PJM's various internal divisions to PJM's unbundled services. PJM states that the revisions are necessary to reflect an internal reorganization of PJM.

Copies of this filing were served upon the PJM Members, and the state electric utility regulatory commissions within the PJM control area.

Comment date: November 6, 2000, in accordance with Standard Paragraph E at the end of this notice.

4. Consolidated Edison Company of New York, Inc.

[Docket No. ER01-129-000]

Take notice that on October 16, 2000, Consolidated Edison Company of New York, Inc. (Con Edison), tendered for filing a Supplement to its Rate Schedule, Con Edison Rate Schedule FERC No. 130, a facilities agreement with the New York Power Authority (NYPA).

Con Edison has requested that the Supplement take effect as of September 1, 2000.

Con Edison states that a copy of this filing has been served by mail upon NYPA.

Comment date: November 6, 2000, in accordance with Standard Paragraph E at the end of this notice.

5. Consolidated Edison Company of New York, Inc.

[Docket No. ER01-130-000]

Take notice that on October 16, 2000, Consolidated Edison Company of New York, Inc. (Con Edison), tendered for filing a Supplement to its Rate Schedule FERC 117, an agreement to provide interconnection and transmission service to Keyspan/Long Island Power Authority (Keyspan). The Supplement provides for a decrease in the annual fixed rate carrying charges.

Con Edison has requested that this decrease take effect as of September 1, 2000.

Con Edison states that a copy of this filing has been served by mail upon Keyspan.

Comment date: November 6, 2000, in accordance with Standard Paragraph E at the end of this notice.

6. Cinergy Services, Inc.

[Docket No. ER01-131-000]

Take notice that on October 13, 2000, Cinergy Services, Inc. (Cinergy) and American Energy Trading, Inc., are requesting a cancellation of Service Agreement No. 135, under Cinergy Operating Companies, Market-Based Power Sales Tariff—MB, FERC Electric Tariff Original Volume No. 7.

Cinergy requests an effective date of October 16, 2000.

Comment date: November 6, 2000, in accordance with Standard Paragraph E at the end of this notice.

7. Cinergy Services, Inc.

[Docket No. ER01-132-000]

Take notice that on October 13, 2000, Cinergy Services, Inc. (Cinergy) and American Energy Trading, Inc., tendered for filing a request for cancellation of Service Agreement No. 135, under Cinergy Operating Companies, Cost-Based Power Sales Tariff—CB, FERC Electric Tariff Original Volume No. 6.

Cinergy requests an effective date of October 16, 2000.

Comment date: November 6, 2000, in accordance with Standard Paragraph E at the end of this notice.

8. Cinergy Services, Inc.

[Docket No. ER01-133-000]

Take notice that on October 16, 2000, Cinergy Services, Inc. (Cinergy) and South Jersey Energy Company are requesting a cancellation of Service Agreement No. 214, under Cinergy Operating Companies, Market-Based Power Sales Tariff—MB, FERC Electric Tariff Original Volume No. 7.

Cinergy requests an effective date of October 16, 2000.

Comment date: November 6, 2000, in accordance with Standard Paragraph E at the end of this notice.

9. Cinergy Services, Inc.

[Docket No. ER01-134-000]

Take notice that on October 16, 2000, Cinergy Services, Inc. (Cinergy) and South Jersey Energy Company tendered for filing a request for cancellation of Service Agreement No. 211, under Cinergy Operating Companies, Cost-Based Power Sales Tariff—CB, FERC Electric Tariff Original Volume No. 6.

Cinergy requests an effective date of October 16, 2000.

Comment date: November 6, 2000, in accordance with Standard Paragraph E at the end of this notice.

10. Pacific Gas and Electric Company

[Docket No. ER01-135-000]

Take notice that on October 16, 2000, Pacific Gas and Electric Company (PG&E) tendered for filing a Generator Special Facilities Agreement (GSFA) between PG&E and Sunrise Cogeneration and Power Company (Sunrise) providing for Special Facilities and the parallel operation of Sunrise's generating facility and the PG&E-owned electric system.

This GSFA permits PG&E to recover the ongoing costs associated with owning, operating and maintaining the Special Facilities including the cost of any alterations and additions. As detailed in the GSFA, PG&E proposes to charge Sunrise a monthly Cost of Ownership Charge equal to the rate for transmission-level, customer-financed facilities in PG&E's currently effective Electric Rule 2, as filed with the California Public Utilities Commission (CPUC). PG&E's currently effective rate of 0.31% for transmission-level, customer-financed Special Facilities is contained in the CPUC's Advice Letter 1960-G/1587-E, effective August 5, 1996, a copy of which is included in this filing.

Copies of this filing have been served upon Sunrise and the CPUC.

Comment date: November 6, 2000, in accordance with Standard Paragraph E at the end of this notice.

11. Delta Person Limited Partnership

[Docket No. ER01-138-000]

Take notice that on October 16, 2000, Delta Person Limited Partnership (Delta), tendered for filing Notice of Succession pursuant to Section 35.16 of the Commission's Regulations. As a result of a name change, Delta is succeeding to the FERC Electric Rate Schedule No. 1 of Cobisa-Person Limited Partnership, effective September 25, 2000.

Comment date: November 6, 2000, in accordance with Standard Paragraph E at the end of this notice.

12. Cinergy Services, Inc.

[Docket No. ER01-139-000]

Take notice that on October 16, 2000, Cinergy Services, Inc. (Cinergy), tendered for filing the following: (1) A Notice of Letter of Acquisition of Merger of Citizens Power LLC into Edison Mission Marketing & Trading; (2) a Notice of Name Change from Amoco Energy Trading Corporation to BP Energy Company; (3) a Notice of Name Change from Williams Energy Services Company to Williams Energy Marketing & Trading Company; and (4) a Notice of Name Change from Engage Energy US, L.P. to Coastal Merchant Energy, L.P.

Cinergy respectfully requests waiver of any applicable regulation to the extent necessary to make the tariff changes effective as of the date of each of the listed name changes.

A copy of the filing was served upon the affected parties.

Comment date: November 6, 2000, in accordance with Standard Paragraph E at the end of this notice.

13. New York Independent System Operator, Inc.

[Docket Nos. ER00-3591-000 and ER00-3591-001]

Take notice that on October 16, 2000, Enron Power Marketing, Inc. (EPMI) filed a non-substantive correction to a sentence in the prior version of the affidavit of Scott Englander in order to clarify its meaning.

Comment date: November 6, 2000, in accordance with Standard Paragraph E at the end of this notice.

14. PPM One LLC

[Docket No. EG01-5-000]

Take notice that on October 16, 2000, PPM One LLC filed with the Federal Energy Regulatory Commission an Application for Determination of Exempt Wholesale Generator Status pursuant to Part 365 of the Commission's Regulations and Section 32 of the Public Utility Holding Company Act of 1935, as amended. The applicant, a limited liability company organized under the laws of the State of Oregon, is a wholly-owned subsidiary of PacifiCorp Power Marketing, Inc. PacifiCorp Power Marketing, Inc., an Oregon corporation, is a wholly-owned subsidiary of PacifiCorp Group Holdings, Inc., an Oregon corporation with general offices in Portland, Oregon. PacifiCorp Group Holdings, Inc. is, in turn, a wholly-owned subsidiary of PacifiCorp, an Oregon corporation and an investor owned electric utility company with general offices in Portland, Oregon. PacifiCorp is a subsidiary of ScottishPower plc, a public limited corporation organized under the laws of Scotland. ScottishPower holds, through subsidiaries, all of the common stock of PacifiCorp. The applicant states that it will be engaged directly and exclusively in the business of owning an eligible facility and selling at wholesale at market-based rates electric energy from the Facility. The facility consists of three NEG Micon Model NM 700/44 Wind Turbines and related plant facilities located on the Bureau of Land Management rights-of-way in Riverside County, California.

Copies of the application have been served upon the California Public Utilities Commission, the Oregon Public Utility Commission, the Washington Utilities and Transportation Commission, the Idaho Public Utilities Commission, the Public Service Commission of Utah and the Wyoming Public Service Commission, the “Affected State commissions,” and the Securities and Exchange Commission.

Comment date: November 9, 2000, in accordance with Standard Paragraph E at the end of this notice. The Commission will limit its consideration of comments to those that concern the adequacy or accuracy of the application.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-27619 Filed 10-26-00; 8:45 am]

BILLING CODE 6717-01-P